DEPARTMENT OF LABOR

Office of the Secretary

Agency Information Collection Activities; Submission for OMB Review; Comment Request; Federal Contractor Veterans' Employment Report

ACTION: Notice.

SUMMARY: The Department of Labor (DOL) is submitting the Veterans' Employment and Training Service (VETS) sponsored information collection request (ICR) titled, “Federal Contractor Veterans' Employment Report,” Forms VETS-100 and VETS-100A, to the Office of Management and Budget (OMB) for review and approval for continued use in accordance with the Paperwork Reduction Act (PRA) of 1995 (Pub. L. 104-13, 44 U.S.C. chapter 35).

DATES: Submit comments on or before June 20, 2011.

ADDRESSES: A copy of this ICR with applicable supporting documentation; including a description of the likely respondents, proposed frequency of response, and estimated total burden may be obtained from the RegInfo.gov Web site, http://www.reginfo.gov/public/do/PRAMain, on the day following publication of this notice or by contacting Michel Smyth by telephone at 202-693-4129 (this is not a toll-free number) or sending an e-mail to DOL_PRA_PUBLIC@dol.gov.

Submit comments about this request to the Office of Information and Regulatory Affairs, Attn: OMB Desk Officer for the Department of Labor, Veterans' Employment and Training Service (VETS), Office of Management and Budget, Room 10235, Washington, DC 20503, Telephone: 202-395-6929/Fax: 202-395-6881 (these are not toll-free numbers), e-mail: OIRA_submission@omb.eop.gov.

FOR FURTHER INFORMATION CONTACT: Contact Michel Smyth by telephone at 202-693-4129 (this is not a toll-free number) or by e-mail at DOL_PRA_PUBLIC@dol.gov.

SUPPLEMENTARY INFORMATION: The Vietnam Era Veterans' Readjustment Assistance Act of 1974 (VEVRAA), 38 U.S.C. 4212(d), requires Federal contractors and subcontractors subject to the Act's affirmative action provisions in 38 U.S.C. 4212(a) to track and report annually to the Secretary of Labor the number of employees in their workforces, by job category and hiring location, who belong to the specified categories of covered veterans. The VETS maintains two sets of regulations to implement the reporting requirements under the VEVRAA and uses two different forms for providing the required information on the employment of covered veterans.

Regulations set forth in 41 CFR part 61-250 require contractors with a government contract of $25,000 or more entered into before December 1, 2003, to use Form VETS-100 for reporting information on the number of covered veterans in their workforces. Regulations set forth in 41 CFR part 61-300 implement amendments to the reporting requirements under the VEVRAA made by the Jobs for Veterans Act (JVA) (Pub. L. 107-288) enacted in 2002. The JVA amended the VEVRAA by: (1) Increasing from $25,000 to $100,000, the dollar amount of the contract that subjects a Federal contractor to the requirement to report on veterans' employment; and (2) changing the categories of covered veterans under the VEVRAA, and thus the categories of veterans that contractors are required to track and report on annually. These latter regulations require contractors with a government contract entered into or modified on or after December 1, 2003, in the amount of $100,000 or more to use Form VETS-100A for reporting information on their employment of covered veterans under the VEVRAA.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid OMB control number. See 5 CFR 1320.5(a) and 1320.6. The DOL obtains OMB approval for this information collection under OMB Control Number 1293-0005. The current OMB approval is scheduled to expire on May 31, 2011; however, it should be noted that information collections submitted to the OMB receive a month-to-month extension while they undergo review. For additional information, see the related notice published in the Federal Register on January 13, 2011 (76 FR 2420).

Interested parties are encouraged to send comments to the OMB, Office of Information and Regulatory Affairs at the address shown in the ADDRESSES section within 30 days of publication of this notice in the Federal Register. In order to help ensure appropriate consideration, comments should reference OMB Control Number 1293-0005. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Veterans' Employment and Training Service (VETS).

Title of Collection: Federal Contractor Veterans' Employment Report.

OMB Control Number: 1293-0005.

Affected Public: Private Sector—Businesses or other for-profits.

Total Estimated Number of Respondents: 20,700.

Total Estimated Number of Responses: 393,300.

Total Estimated Annual Burden Hours: 202,100.

Total Estimated Annual Cost Burden: $0.

Dated: May 16, 2011.
Michel Smyth,
Departmental Clearance Officer.

[FR Doc. 2011-12400 Filed 5-19-11; 8:45 am]

BILLING CODE 4510-79-P